DEPARTMENT OF ENERGY

Federal Energy Regulatory Commission

[Docket No. RP03-258-001]

Iroquois Gas Transmission System, L.P.; Notice of Tariff Filing

February 24, 2003.

Take notice that on February 20, 2003, Iroquois Gas Transmission System, L.P. (Iroquois) informed the Commission that the following tariff sheets tendered for filing as part of its FERC Gas Tariff, First Revised Volume No. 1, on February 14, 2003, are proposed to have an effective date of April 1, 2003:

Tenth Revised Sheet No. 4A

Eighth Revised Sheet No. 58

Eighth Revised Sheet No. 59

First Revised Sheet No. 60E

Fifth Revised Sheet No. 67

Original Sheet No. 4B

First Revised Sheet No. 58A

Original Sheet No. 60D.01

Third Revised Sheet No. 66A

Iroquois states that the proposed effective date originally proposed in the February 14, 2003 filing was March 14, 2003. However, by a letter dated February 20, 2003, Iroquois advised the Commission that it had determined that it will not be able to commence the new service until April 1, 2003, and therefore the proposed effective date of the tariff sheets is April 1, 2003. Iroquois respectfully requests any necessary waivers of the Commission's regulations to permit the filing to become effective as proposed.

Iroquois states that the purpose of the tariff changes is to implement a new Extended Receipt and Extended Delivery Point Service, which would extend, on a secondary basis, a shipper's existing firm transportation path to downstream or upstream zones.

Iroquois states that copies of this amended filing were served on all jurisdictional customers and interested state regulatory agencies and all parties to the proceeding.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: March 4, 2003.

Magalie R. Salas,
Secretary.

[FR Doc. 03-4848 Filed 2-28-03; 8:45 am]

BILLING CODE 6717-01-P